DEPARTMENT OF DEFENSE

Department of the Army, Corps of Engineers

Availability of the Final Environmental Impact Statement for the Proposed Rueter-Hess Reservoir, Parker, CO

AGENCY: Department of the Army, U.S. Army Corps of Engineers, DoD.

ACTION: Notice of availability.

SUMMARY: In accordance with the National Environmental Policy Act (NEPA) of 1969, as amended, and the U.S. Army Corps of Engineers' (Corps) regulations for NEPA implementation (33 CFR part 230 and 325, Appendices B and C), the Corps has issued a Final Environmental Impact Statement (FEIS) to disclose environmental impacts from constructing and operating the proposed Rueter-Hess Reservoir near the town of Parker, in Douglas County, CO. The project proponent is the Parker Water and Sanitation District (District). The basic purpose of the proposed action is to provide a safe, adequate and sustainable municipal water supply to the District, which is capable of meeting peak demands within the District's currently zoned boundary for the next 50 years. The construction of the proposed project would result in direct impacts to 6.7 acres of wetlands and 5 miles of other waters of the United States, and would require a section 404 permit.

DATES: Written comments on the FEIS will be accepted for a period of 30 days following Federal Register publication of the Notice of Availability by the Environmental Protection Agency (EPA). The anticipated date of EPA Federal Register publication is July 11, 2003. Comments should be submitted to Rodney Schwartz, Corps—Omaha District (see contact information below).

ADDRESSES: Copies of the FEIS will be available for review at the following locations:

1. Parker Library, 10851 South Crossroad Drive, Parker, CO 80134.

2. Parker Water and Sanitation District, 19801 East Mainstreet, Parker, CO 80138.

3. U.S. Army Corps of Engineers, Denver Regulatory Office, 9307 South Wadsworth Blvd., Littleton, CO 80128.

Copies can also be obtained from the Corps' third-party contractor, URS Corporation, attention: Paula Daukas, 8181 East Tufts Avenue, Denver, CO 80237; 303-740-3896; Fax 303-694-3946, paula_daukas@urscorp.com.

FOR FURTHER INFORMATION CONTACT: Rodney Schwartz, Senior Project Manager, U.S. Army Corps of Engineers, Omaha District-Regulatory Branch, Rm. 151, 12565 West Center Road, Omaha, NE., 68144-3869, Phone: 402-221-4143, Fax: 402-221-4939, rodney.j.schwartz@usace.army.mil

SUPPLEMENTARY INFORMATION: The purpose of the FEIS is to provide decision makers and the public with information pertaining to the proposed action, and to disclose environmental impacts and identify mitigation measures to reduce impacts. The FEIS analyzes the Parker Water and Sanitation District's proposal to construct and operate Rueter-Hess Reservoir and the associated water delivery system. The proposed reservoir would be located in Douglas County, CO approximately 12 miles southeast of Denver and 3 miles southwest of the town of Parker. The reservoir would be located on Newlin Gulch with a diversion structure along Cherry Creek. The project would include a 16,200 acre-foot (AF) reservoir inundating 470 acres, a 5,300-foot long and 135-foot high dam, two pipelines, a water treatment plant and booster pump station, a diversion structure along Cherry Creek with a pump station, and 16 Denver Basin extraction wellfields.

The proposed water supply system would rely upon renewable sources of water, including the capability of capturing, storing, and reusing seasonal high flows in nearby Cherry Creek, and Advanced Wastewater Treatment (AWT) return flows currently discharged into Cherry Creek. The water from the reservoir would be used primarily to help satisfy the District's peak seasonal demands, thereby reducing the loading on nonrenewable Denver Basin aquifer groundwater and maximizing use of renewable water resources. The reservoir is needed by the District to provide operational flexibility to ensure a long-term, reliable water supply. In addition to the proposed action, the FEIS analyzes two alternatives: (1) the Reduced Capacity Reservoir (11,200 AF), and (2) the No Action.

The Draft Environmental Impact Statement (DEIS) was published in February 2002. A combined public hearing on the DEIS and section 404 permit application was held on March 12, 2002 in Parker, CO. The comments and responses are included in the FEIS.

Rodney J. Schwartz,
Senior Project Manager, Regulatory Branch.

[FR Doc. 03-17520 Filed 7-10-03; 8:45 am]

BILLING CODE 3710-62-P